DEPARTMENT OF ENERGY

Environmental Management Site-Specific Advisory Board, Nevada

AGENCY: Office of Environmental Management, Department of Energy.

ACTION: Notice of in-person/virtual hybrid open meeting.

SUMMARY: This notice announces an in-person/virtual hybrid meeting of the Environmental Management Site-Specific Advisory Board (EM SSAB), Nevada. The Federal Advisory Committee Act requires that public notice of this meeting be announced in the Federal Register.

DATES: Wednesday, March 16, 2022; 4:00 p.m.-7:50 p.m.

The opportunity for oral public comment is at 4:10 p.m. PT and written public comment before and after the meeting within seven days.

This time is subject to change; please contact the Nevada Site Specific Advisory Board (NSSAB) Administrator (below) for confirmation of time prior to the meeting.

ADDRESSES: This hybrid meeting will be open to the public virtually via Microsoft Teams only. To attend, please contact the NSSAB Administrator (below) no later than 4:00 p.m. PT on Monday, March 14, 2022.

Board members, Department of Energy (DOE) representatives, agency liaisons, and support staff will participate in-person, strictly following COVID-19 precautionary measures, at: Molasky Building, 15th Floor Conference Room, 100 North City Parkway, Las Vegas, NV 89106.

FOR FURTHER INFORMATION CONTACT: Barbara Ulmer, NSSAB Administrator, by Phone: (702) 523-0894 or email: nssab@emcbc.doe.gov.

SUPPLEMENTARY INFORMATION:

Purpose of the Board: The purpose of the Board is to make recommendations to DOE-EM and site management in the areas of environmental restoration, waste management, and related activities.

Tentative Agenda

1. Optimization of Hybrid Meeting Approach—Work Plan Item #2

2. Educational Session on Transportation of Low-Level Waste to the Nevada National Security Site

3. Development of Round Robin Topics for the spring EM SSAB National Chairs Meeting

Public Participation: The in-person/online virtual hybrid meeting is open to the public virtually via Microsoft Teams only. To sign-up for public comment, please contact the NSSAB Administrator (above) no later than 4:00 p.m. PT on Monday, March 14, 2022. In addition to participation in the live public comment session identified above, written statements may be filed with the Board either before or within seven days after the meeting by sending them to the NSSAB Administrator at the aforementioned email address. The Deputy Designated Federal Officer is empowered to conduct the meeting in a fashion that will facilitate the orderly conduct of business. Individuals wishing to make public comments can do so in 2-minute segments for the 15 minutes allotted for public comments.

Minutes: Minutes will be available by writing or calling Barbara Ulmer, NSSAB Administrator, U.S. Department of Energy, EM Nevada Program, 100 North City Parkway, Suite 1750, Las Vegas, NV 89106; Phone: (702) 523-0894. Minutes will also be available at the following website: http://www.nnss.gov/nssab/pages/MM_FY22.html.

Signed in Washington, DC, on February 15, 2022.
LaTanya Butler,
Deputy Committee Management Officer.

[FR Doc. 2022-03599 Filed 2-17-22; 8:45 am]

BILLING CODE 6450-01-P